DEPARTMENT OF EDUCATION

Applications for New Awards; Expanding Opportunity Through Quality Charter Schools Program—Grants for Credit Enhancement for Charter School Facilities

AGENCY: Office of Elementary and Secondary Education, Department of Education.

ACTION: Notice.

SUMMARY: The Department of Education (Department) is issuing a notice inviting applications for fiscal year (FY) 2025 for Charter Schools Program (CSP)—Grants for Credit Enhancement for Charter School Facilities (Credit Enhancement).

DATES:

Applications Available: May 16, 2025.

Deadline for Notice of Intent to Apply: Applicants are strongly encouraged but not required to submit a notice of intent to apply by June 16, 2025. Applicants who do not meet this deadline may still apply.

Deadline for Transmittal of Applications: June 25, 2025.

Deadline for Intergovernmental Review: August 25, 2025.

Pre-Application Webinar Information: The Credit Enhancement program intends to hold a webinar to provide technical assistance to interested applicants. Detailed information regarding this webinar will be provided at https://www.ed.gov/grants-and-programs/grants-birth-grade-12/charter-school-programs/credit-enhancement-for-charter-school-facilities-program.

Note: For new potential grantees unfamiliar with grantmaking at the Department, please consult our “Getting Started with Discretionary Grant Applications web page at https://www.ed.gov/grants-and-programs/apply-grant/getting-started-discretionary-grant-applications.

ADDRESSES: For the addresses for obtaining and submitting an application, please refer to the Application Submission Instructions section.

FOR FURTHER INFORMATION CONTACT: Thea Fowles, U.S. Department of Education, 400 Maryland Avenue SW, Washington, DC 20202-5970. Telephone: (202) 987-1727. Email: charter.facilities@ed.gov.

If you are deaf, hard of hearing, or have a speech disability and wish to access telecommunications relay services, please dial 7-1-1.

SUPPLEMENTARY INFORMATION:

Full Text of Announcement

I. Funding Opportunity Description

1. Purpose of Program: Through CSP Credit Enhancement grants, the Department provides grants on a competitive basis to eligible public and private nonprofit entities that demonstrate innovative ways to assist charter schools ¹ with the costs related to acquiring, constructing, and renovating facilities by enhancing the availability of loans and bond financing.

¹ Terms defined in this notice are italicized the first time they are used.

Charter schools supported under CSP Credit Enhancement grants provide elementary or secondary education, or both, and may also serve students in early childhood education programs or postsecondary students.

Assistance Listing Number: 84.354A.

OMB Control Number: 1810-0775.

Note: The table below highlights key aspects of the funding opportunity in this NIA. Applicants are encouraged to thoroughly review this notice for a detailed listing and description of all competition requirements before submitting an application.

Table 1—Funding Opportunity At-A-Glance
Topic | Notes
Application submission deadline | All interested applicants must submit applications in Grants.gov no later than 11:59 p.m. Eastern time on June 25, 2025. Complete instructions on how to register and apply can be found at Grants.gov.
Eligibility | Public entities, private nonprofit entities, and consortia of such entities are eligible to apply.
Funding | Estimated Available Funds: $60,000,000. Estimated Range of Awards: $2,000,000 to $20,000,000 per year. Estimated Average Size of Awards: $16,000,000. Estimated Number of Awards 3-4. Maximum Award: We will not make an award exceeding $20,000,000 for a grant project. The Department is not bound by any estimates in this notice.
Competitive Preference Priority (CPP) The full text is in the Priorities section below | There is one CPP for this competition. We award up to an additional 6 points to an application that addresses the CPP. Responding to the CPP is optional. CPP: The capacity of charter schools to offer public school choice in those communities with the greatest need for this choice. (Up to 6 points)
Application Requirements | Applicants are required to submit the following program specific forms as part of their application package that can be found on the FY25 Credit Enhancement Grant Competition Page: https://www.ed.gov/grants-and-programs/grants-birth-grade-12/charter-school-programs/credit-enhancement-for-charter-school-facilities-program. • Table 1—Non-Grant Funds Projected to be Generated. • Table 2—Applicant Activity Table for the Most Recently Completed Fiscal Year. • Table 3—Budget Form: Grant Funds Expenditures. • Table 4—Risk Level of Charter Schools Served (required of past grantees only). • Consortium agreements (if applicable).
Selection Criteria The full text is in the selection criteria section below | We evaluate applications using selection criteria. The maximum score for all selection criteria is 100 points. (a) Quality of the Project Design and Significance (35 points). (b) Quality of Project Services (15 points). (c) Capacity (35 points). (d) Quality of Project Personnel (15 points).

2. Award Information:

Type of Award: Discretionary grants.

Estimated Available Funds: $60,000,000.

Contingent upon the availability of funds and the quality of applications, we may make additional awards in subsequent years from the list of unfunded applications from this competition.

Estimated Range of Awards: $2,000,000 to $20,000,000.

Estimated Average Size of Awards: $16,000,000.

Maximum Award: We will not make an award exceeding $20,000,000 for a grant project. The Department may change the maximum amount through a notice published in the Federal Register.

Estimated Number of Awards: 3-4.

Note: The Department is not bound by any estimates in this notice.

Project Period: From the start date indicated on the grant award document until the Federal funds and earnings on those funds have been expended for the grant purposes or until financing facilitated by the grant has been retired, whichever is later.

3. Eligible Applicants: (a) A public entity, such as a State or local governmental entity; (b) A private, nonprofit entity; or (c) A consortium of entities described in (a) and (b).

Note: If you are a nonprofit organization, under 34 CFR 75.51, you may demonstrate your nonprofit status by providing: (1) proof that the Internal Revenue Service currently recognizes the applicant as an organization to which contributions are tax deductible under section 501(c)(3) of the Internal Revenue Code; (2) a statement from a State taxing body or the State attorney general certifying that the organization is a nonprofit organization operating within the State and that no part of its net earnings may lawfully benefit any private shareholder or individual; (3) a certified copy of the applicant's certificate of incorporation or similar document if it clearly establishes the nonprofit status of the applicant; or (4) any item described above if that item applies to a State or national parent organization, together with a statement by the State or parent organization that the applicant is a local nonprofit affiliate.

4. Priorities: This notice includes one competitive preference priority.

Competitive Preference Priority: For FY 2025 and any subsequent year in which we make awards from the list of unfunded applications from this competition, this priority is a competitive preference priority. Under 34 CFR 225.12, we award up to an additional 6 points to an application, depending on how well the application addresses the priority.

The Competitive Preference Priority is: The capacity of charter schools to offer public school choice in those communities with the greatest need for this choice based on—

(1) The extent to which the applicant would target services to geographic areas in which a large proportion or number of public schools have been identified for comprehensive support and improvement or targeted support and improvement under the ESEA, as amended by the Every Student Succeeds Act (up to 2 points);

(2) The extent to which the applicant would target services to geographic areas in which a large proportion of students perform below proficient on State academic assessments (up to 2 points); and

(3) The extent to which the applicant would target services to communities with large proportions of students from low-income families (up to 2 points).

5. Definitions:

The following definitions apply to this program. The definition of “charter school” is from section 4310 of the Elementary and Secondary Education Act of 1965, as amended (ESEA) (20 U.S.C. 7221i), and the remainder are from 34 CFR 77.1.

Baseline means the starting point from which performance is measured and targets are set.

Charter school means a public school that—

(1) In accordance with a specific State statute authorizing the granting of charters to schools, is exempt from significant State or local rules that inhibit the flexible operation and management of public schools, but not from any rules relating to the other requirements of this definition;

(2) Is created by a developer as a public school, or is adapted by a developer from an existing public school, and is operated under public supervision and direction;

(3) Operates in pursuit of a specific set of educational objectives determined by the school's developer and agreed to by the authorized public chartering agency;

(4) Provides a program of elementary or secondary education, or both;

(5) Is nonsectarian in its programs, admissions policies, employment practices, and all other operations, and is not affiliated with a sectarian school or religious institution;

(6) Does not charge tuition;

(7) Complies with the Age Discrimination Act of 1975, title VI of the Civil Rights Act of 1964, title IX of the Education Amendments of 1972, section 504 of the Rehabilitation Act of 1973, the Americans with Disabilities Act of 1990 (42 U.S.C. 12101 et seq.), section 444 of the General Education Provisions Act (20 U.S.C. 1232g) (commonly referred to as the “Family Educational Rights and Privacy Act of 1974”), and part B of the Individuals with Disabilities Education Act (IDEA);

(8) Is a school to which parents choose to send their children, and that—

(i) Admits students on the basis of a lottery, consistent with section 4303(c)(3)(A) of the ESEA, if more students apply for admission than can be accommodated; or

(ii) In the case of a school that has an affiliated charter school (such as a school that is part of the same network of schools), automatically enrolls students who are enrolled in the immediate prior grade level of the affiliated charter school and, for any additional student openings or student openings created through regular attrition in student enrollment in the affiliated charter school and the enrolling school, admits students on the basis of a lottery as described in paragraph (8)(i) of this definition;

(9) Agrees to comply with the same Federal and State audit requirements as do other elementary schools and secondary schools in the State, unless such State audit requirements are waived by the State;

(10) Meets all applicable Federal, State, and local health and safety requirements;

(11) Operates in accordance with State law;

(12) Has a written performance contract with the authorized public chartering agency in the State that includes a description of how student performance will be measured in charter schools pursuant to State assessments that are required of other schools and pursuant to any other assessments mutually agreeable to the authorized public chartering agency and the charter school; and

(13) May serve students in early childhood education programs or postsecondary students.

Performance measure means any quantitative indicator, statistic, or metric used to gauge program or project performance.

Performance target means a level of performance that an applicant would seek to meet during the course of a project or as a result of a project.

6. Selection Criteria: The selection criteria for this competition are from 34 CFR 225.11 and are as follows:

(a) Quality of Project Design and Significance (35 points). In determining the quality of project design and significance, the Secretary considers—

(1) The extent to which the grant proposal would provide financing to charter schools at better rates and terms than they can receive absent assistance through the program;

(2) The extent to which the project goals, objectives, and timeline are clearly specified, measurable, and appropriate for the purpose of the program;

(3) The extent to which the project implementation plan and activities, including the partnerships established, are likely to achieve measurable objectives that further the purposes of the program;

(4) The extent to which the project is likely to produce results that are replicable;

(5) The extent to which the project will use appropriate criteria for selecting charter schools for assistance and for determining the type and amount of assistance to be given;

(6) The extent to which the proposed activities will leverage private or public-sector funding and increase the number and variety of charter schools assisted in meeting their facilities needs more than would be accomplished absent the program;

(7) The extent to which the project will serve charter schools in States with strong charter laws, consistent with the criteria for such laws in section 4303(g)(2) of the ESEA; and

(8) The extent to which the requested grant amount and the project costs are reasonable in relation to the objectives, design, and potential significance of the project.

(b) Quality of Project Services (15 points). In determining the quality of the project services, the Secretary considers—

(1) The extent to which the services to be provided by the project reflect the identified needs of the charter schools to be served;

(2) The extent to which charter schools and chartering agencies were involved in the design of, and demonstrate support for, the project;

(3) The extent to which the technical assistance and other services to be provided by the proposed grant project involve the use of cost-effective strategies for increasing charter schools' access to facilities financing, including the reasonableness of fees and lending terms; and

(4) The extent to which the services to be provided by the proposed grant project are focused on assisting charter schools with a likelihood of success and the greatest demonstrated need for assistance under the program.

(c) Capacity (35 points). In determining an applicant's business and organizational capacity to carry out the project, the Secretary considers—

(1) The amount and quality of experience of the applicant in carrying out the activities it proposes to undertake in its application, such as enhancing the credit on debt issuances, guaranteeing leases, and facilitating financing;

(2) The applicant's financial stability;

(3) The ability of the applicant to protect against unwarranted risk in its loan underwriting, portfolio monitoring, and financial management;

(4) The applicant's expertise in education to evaluate the likelihood of success of a charter school;

(5) The ability of the applicant to prevent conflicts of interest, including conflicts of interest by employees and members of the board of directors in a decision-making role;

(6) If the applicant has co-applicants (consortium members), partners, or other grant project participants, the specific resources to be contributed by each co-applicant (consortium member), partner, or other grant project participant to the implementation and success of the grant project;

(7) For State governmental entities, the extent to which steps have been or will be taken to ensure that charter schools within the State receive the funding needed to obtain adequate facilities; and

(8) For previous grantees under the charter school facilities programs, their performance in implementing these grants.

Note: The 35 available points under this selection criterion will be allocated evenly among the factors applicable to a particular applicant. For example, for an applicant for which none of factors (6) through (8) apply, the 35 available points will be allocated among the first five factors. Similarly, for an applicant that is a State governmental entity that is a previous grantee under the charter school facilities programs, the 35 available points will be allocated evenly among factors (1) through (5), (7), and (8).

(d) Quality of Project Personnel (15 points). In determining the quality of project personnel, the Secretary considers—

(1) The qualifications of project personnel, including relevant training and experience, of the project manager and other members of the project team, including consultants or subcontractors; and

(2) The staffing plan for the grant project.

7. Performance Measures: The Department has developed the following performance measures for the purpose of Department reporting under 34 CFR 75.110:

(a) Program Performance Measures: (1) The performance measures for this program are (i) The amount of funding grantees leverage for charter schools to acquire, construct, and renovate school facilities; and (ii) the number of charter schools served. Grantees must provide information that is responsive to these measures as part of their annual performance reports.

(2) In accordance with 34 CFR 75.110(b), applications must describe:

(i) The data collection and reporting methods the applicant would use and why those methods are likely to yield reliable, valid, and meaningful performance data.

(ii) The applicant's capacity to collect and report the quality of the performance data, as evidenced by quality data collection, analysis, and reporting in other projects or research.

(b) Project-Specific Performance Measures.

Applicants must propose project-specific performance measures and performance targets consistent with the objectives of the project and program. In accordance with 34 CFR 75.110(c), applications must include the following:

(1) Project Specific Performance Measures. How each proposed project-specific performance measure would: accurately measure the performance of the project; be consistent with the program performance measures established under paragraph (a) of this section; and be used to inform continuous improvement of the project.

(2) Baseline data. (i) Why each proposed baseline is valid and reliable, including an assessment of the quality data used to establish the baseline; or (ii) if the applicant has determined that there are no established baseline data for a particular performance measure, an explanation of why there is no established baseline and of how and when, during the project period, the applicant would establish a valid baseline for the performance measure.

(3) Performance targets. Why each proposed performance target is ambitious yet achievable compared to the baseline for the performance measure and when, during the project period, the applicant would meet the performance target(s).

All grantees must submit an annual performance report with information that is responsive to these performance measures.

8. Program Authority: Title IV, Part C Section 4304 of the ESEA, as amended (20 U.S.C. 7221c).

Note: Projects will be awarded and must be operated in a manner consistent with the nondiscrimination requirements contained in Federal civil rights laws.

Applicable Regulations: (a) The Education Department General Administrative Regulations in 34 CFR parts 75, 77, 79, 81, 82, 84, 97, 98, and 99. (b) The Office of Management and Budget (OMB) Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200 (Uniform Guidance), as adopted and amended as regulations of the Department in 2 CFR part 3474. (d) The regulations for this program in 34 CFR part 225.

II. Supplemental Requirements

1. a. Cost Sharing or Matching: This competition does not require cost sharing or matching.

b. Indirect Cost Rate Information: This program uses an unrestricted indirect cost rate. For more information regarding indirect costs, or to obtain a negotiated indirect cost rate, please see https://www.ed.gov/about/ed-offices/ofo#Indirect-Cost-Division.

c. Administrative Cost Limitation: Consistent with section 4304(g) of the ESEA (20 U.S.C. 7221c(g)), an eligible entity may use not more than 2.5 percent of the funds received under this program for the administrative costs of carrying out its responsibilities under this program.

2. Subgrantees: A grantee under this competition may not award subgrants to entities to directly carry out project activities described in its application.

3. Funding Restrictions:

(a) Reserve accounts. Under section 4304(f) of the ESEA, an eligible entity receiving a grant must, in accordance with State and local law, directly or indirectly, alone or in collaboration with others, deposit the funds received, other than funds used for administrative costs, in a reserve account established and maintained by the eligible entity for this purpose. Amounts deposited in such account must be used by the eligible entity for one or more of the following purposes: (1) Guaranteeing, insuring, and reinsuring bonds, notes, evidences of debt, loans, and interests therein, the proceeds of which are used for an objective described in paragraph (b). (2) Guaranteeing and insuring leases of personal and real property for an objective described in paragraph (b). (3) Facilitating financing by identifying potential lending sources, encouraging private lending, and other similar activities that directly promote lending to, or for the benefit of, charter schools. (4) Facilitating the issuance of bonds by charter schools, or by other public entities for the benefit of charter schools, by providing technical, administrative, and other appropriate assistance (including the recruitment of bond counsel, underwriters, and potential investors, and the consolidation of multiple charter school projects within a single bond issue). Funds received and deposited in the reserve account must be invested in obligations issued or guaranteed by the United States or a State, or in other similarly low-risk securities. Any earnings on funds received must be deposited in the reserve account and used in accordance with this program.

(b) Charter school objectives. Under 20 U.S.C. 7221c(e), an eligible entity receiving a grant must use the funds deposited in the reserve account to assist one or more charter schools to access private sector capital to accomplish one or more of the following objectives: (1) The acquisition (by purchase, lease, donation, or otherwise) of an interest (including an interest held by a third party for the benefit of a charter school) in improved or unimproved real property that is necessary to commence or continue the operation of a charter school. (2) The construction of new facilities, or the renovation, repair, or alteration of existing facilities, necessary to commence or continue the operation of a charter school. (3) The predevelopment costs required to assess sites for purposes of paragraph (1) or (2) and that are necessary to commence or continue the operation of a charter school.

(c) Reasonable costs. Grantees must ensure that all costs incurred using funds from the reserve account are reasonable and allowable. We specify unallowable costs in 34 CFR 225.21.

(d) No full faith and credit for grantee obligation. No financial obligation of a grantee under this program (such as an obligation under a guarantee, bond, note, evidence of debt, or loan) shall be an obligation of, or guaranteed in any respect by, the United States. The full faith and credit of the United States are not pledged to the payment of funds that may be required to be paid under any obligation made by a grantee under this program. In the event of a default on any debt or other obligation, the United States has no liability to cover the cost of the default.

(e) Performance Agreement. Grantees must enter into a written Performance Agreement with the Department and may not draw down funds prior to approval of the agreement by the Department, unless the grantee receives written permission from the Department in the interim to draw down a specific limited amount of funds.

(f) Standards of conduct. Grantees must maintain and enforce standards of conduct governing the performance of their employees, officers, directors, trustees, and agents engaged in the selection, award, and administration of contracts or agreements related to this grant. The standards of conduct must mandate disinterested decision-making.

(g) Recovery of funds. The Secretary, in accordance with chapter 37 of title 31 of the United States Code, will collect the funds in the reserve account established with grant funds (including any earnings on those funds) as follows: (1) All or a portion of the funds if the Secretary determines that the grantee has permanently ceased to use such funds to accomplish the purposes described in the authorizing statute and the Performance Agreement; or (2) All of the funds if the Secretary determines that, not earlier than 2 years after the date on which it first receives these funds, the grantee has failed to make substantial progress in undertaking the grant project.

We reference additional regulations outlining funding restrictions in the Applicable Regulations section of this notice.

III. Application and Submission Information

1. Application Submission Instructions: Applicants are required to follow the Common Instructions for Applicants to Department of Education Discretionary Grant Programs, published in the Federal Register on December 23, 2024 (89 FR 104528) and available at https://www.federalregister.gov/documents/2024/12/23/2024-30488/common-instructions-for-applicants-to-department-of-education-discretionary-grant-programs, which contain requirements and information on how to submit an application.

2. Submission of Proprietary Information: Given the types of projects that may be proposed in applications for the Credit Enhancement competition, your application may include business information that you consider proprietary. In 34 CFR 5.11, we define “business information” and describe the process we use in determining whether any of that information is proprietary and, thus, protected from disclosure under Exemption 4 of the Freedom of Information Act (5 U.S.C. 552, as amended). Because we plan to post on our website the application narrative sections of successful applications, you may wish to request confidentiality of business information. Consistent with Executive Order 12600 (Predisclosure Notification Procedures for Confidential Commercial Information), please designate in your application any information that you believe is exempt from disclosure under Exemption 4. In the appropriate Appendix section of your application, under “Other Attachments Form,” please list the page number or numbers on which we can find this information. For additional information please see 34 CFR 5.11(c).

3. Intergovernmental Review: This competition is subject to Executive Order 12372 and the regulations in 34 CFR part 79. Information about Intergovernmental Review of Federal Programs under Executive Order 12372 is in the application package for this competition.

4. Notice of Intent to Apply: The Department will be able to review grant applications more efficiently if we know the approximate number of applicants that intend to apply. Therefore, we strongly encourage each potential applicant to notify us of their intent to submit an application. To do so, please email the program contact person listed under FOR FURTHER INFORMATION CONTACT with the subject line “Intent to Apply,” and include the applicant's name and a contact person's name and email address. Applicants that do not submit a notice of intent to apply may still apply for funding; applicants that do submit a notice of intent to apply are not bound to apply or bound by the information provided.

IV. Application Review Information

1. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality. In addition, in making a competitive grant award, the Secretary requires various assurances, including those applicable to Federal civil rights laws that prohibit discrimination in programs or activities receiving Federal financial assistance from the Department (34 CFR 100.4, 104.5, 106.4, 108.8, and 110.23).

2. Risk Assessment and Specific Conditions: Before awarding grants under this program the Department conducts a review of the risks posed by applicants. The Secretary may impose specific conditions and, in appropriate circumstances, high-risk conditions on a grant if the applicant or grantee is not financially stable; has a history of unsatisfactory performance; has a financial or other management system that does not meet the standards in2 CFR part 200, subpart D; has not fulfilled the conditions of a prior grant; or is otherwise not responsible.

3. Integrity and Performance System: If you are selected under this competition to receive an award that over the course of the project period may exceed the simplified acquisition threshold (currently $250,000), we must make a judgment about your integrity, business ethics, and record of performance under Federal awards—that is, the risk posed by you as an applicant—before we make an award. In doing so, we must consider any information about you that is in the System for Award Management's (SAM) Responsibility/Qualification reports (formerly referred to as the Federal Awardee Performance and Integrity Information System (FAPIIS)). You may review and comment on any information about yourself that a Federal agency previously entered and that is currently in the Responsibility/Qualification reports in SAM.

If the total value of your currently active grants, cooperative agreements, and procurement contracts from the Federal Government exceeds $10,000,000, the reporting requirements in 2 CFR part 200, appendix XII, require you to report certain integrity information to SAM semiannually. Please review these requirements if this grant plus all the other Federal funds you receive exceed $10,000,000.

V. Award Administration Information

1. Award Notices: If your application is successful, we notify your U.S. Representative and U.S. Senators and send you a Grant Award Notification (GAN), or we may send you an email containing a link to access an electronic version of your GAN. We also may notify you informally. If your application is not evaluated or not selected for funding, we notify you.

2. Administrative and National Policy Requirements: We identify administrative and national policy requirements in the application package and reference these and other requirements in the Applicable Regulations section of this notice. We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. See the standards in 2 CFR 170.105 to determine whether you are covered by 2 CFR part 170.

(b) At the end of your project period, you must submit a final performance report, including financial information, as directed by the Secretary. If you receive a multiyear award, you must submit an annual performance report that provides the most current performance and financial expenditure information as directed by the Secretary. The Secretary may also require more frequent performance reports. For specific requirements on reporting, please go to www.ed.gov/fund/grant/apply/appforms/appforms.html.

5. Project Directors' Meeting: Applicants approved for funding under this competition must attend a meeting for project directors during each year of the project. The meeting may be held virtually or in person at a location to be determined in the continental United States.

6. Technical Assistance: Grantees under this competition must participate in all program technical assistance offerings provided by the Department and its contractual technical assistance providers and partners throughout the life of the project.

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, compact disc, or other accessible format.

Hayley B. Sanon,
Principal Deputy Assistant Secretary and Acting Assistant Secretary, Office of Elementary and Secondary Education.

[FR Doc. 2025-08783 Filed 5-15-25; 8:45 am]

BILLING CODE 4000-01-P